DEPARTMENT OF VETERANS AFFAIRS

[OMB Control No. 2900-0668]

Agency Information Collection Activity Under OMB Review: Supplemental Income Questionnaire (for Philippine Claims Only)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0668”.

FOR FURTHER INFORMATION CONTACT: Maribel Aponte, Office of Enterprise and Integration, Data Governance Analytics (008), 1717 H Street NW, Washington, DC 20006, (202) 266-4688 or email maribel.aponte@va.gov. Please refer to “OMB Control No. 2900-0668” in any correspondence.

SUPPLEMENTARY INFORMATION:

Authority: 38 U.S.C. 5101,107, 1521, 1541, and 1542; 38 CFR 3.262 and 3.272.

Title: Supplemental Income Questionnaire (for Philippine Claims Only) (VA Form 21P-0784).

OMB Control Number: 2900-0668.

Type of Review: Reinstatement of a previously approved collection.

Abstract: VBA administers Pension Benefits, which is a needs-based benefit program for wartime Veterans, who are aged 65 or older or have a permanent and total non-service-connected disability and limited income and net worth. Eligibility is determined based on the income of and asset amounts for the Veteran and their spouse. Claimants residing in the Philippines complete the 21P-0784 Supplemental Income Questionnaire (for Philippine Claims Only) to report their countable family income and net worth.

VBA uses the information to determine the claimant's entitlement to pension benefits. In an effort to safeguard Veterans and their beneficiaries from financial exploitation, the instructions on this form were amended to include information regarding VA-accredited attorneys or agents charging fees in connection with a proceeding before the Department of Veterans Affairs with respect to a claim.

An agency may not conduct or sponsor, and a person is not required to respond to a collection of information unless it displays a currently valid OMB control number. The Federal Register Notice with a 60-day comment period soliciting comments on this collection of information was published at 86 FR 34 on February 23, 2021, page 11056.

Affected Public: Individuals or Households.

Estimated Annual Burden: 30 hours.

Estimated Average Burden Per Respondent: 15 minutes.

Frequency of Response: One time.

Estimated Number of Respondents: 120.

By direction of the Secretary:
Maribel Aponte,
VA PRA Clearance Officer, Office of Enterprise and Integration, Data Governance Analytics, Department of Veterans Affairs.

[FR Doc. 2021-09870 Filed 5-7-21; 8:45 am]

BILLING CODE 8320-01-P